DEPARTMENT OF HOMELAND SECURITY

Federal Emergency Management Agency

[Docket ID: FEMA-2010-0061]

Agency Information Collection Activities: Submission for OMB Review; Comment Request, OMB No. 1660-NEW; Logistics Capability Assessment Tool (LCAT)

AGENCY: Federal Emergency Management Agency, DHS.

ACTION: Notice; 30-day notice and request for comments; new information collection; OMB No. 1660-NEW; FEMA Form 008-0-1, LCAT Booklet.

SUMMARY: The Federal Emergency Management Agency (FEMA) will submit the information collection abstracted below to the Office of Management and Budget for review and clearance in accordance with the requirements of the Paperwork Reduction Act of 1995. The submission will describe the nature of the information collection, the categories of respondents, the estimated burden (i.e., the time, effort and resources used by respondents to respond) and cost, and the actual data collection instruments FEMA will use.

DATES: Comments must be submitted on or before February 25, 2011.

ADDRESSES: Submit written comments on the proposed information collection to the Office of Information and Regulatory Affairs, Office of Management and Budget. Comments should be addressed to the Desk Officer for the Department of Homeland Security, Federal Emergency Management Agency, and sent via electronic mail to oira.submission@omb.eop.gov or faxed to (202) 395-5806.

FOR FURTHER INFORMATION CONTACT: Requests for additional information or copies of the information collection should be made to Director, Records Management Division, 1800 South Bell Street, Arlington, VA 20598-3005, facsimile number (202) 646-3347, or e-mail address FEMA-Information-Collections-Management@dhs.gov.

SUPPLEMENTARY INFORMATION:

Collection of Information

Title: Logistics Capability Assessment Tool (LCAT).

Type of Information Collection: New information collection.

OMB Number: 1660-NEW.

Form Titles and Numbers: FEMA Form 008-0-1, LCAT Booklet.

Abstract: The Logistics Capability Assessment Tool (LCAT) is a voluntary model for States to self assess disaster logistics planning and response capabilities and identify areas of relative strength and weakness. The LCAT is facilitated through two-day collaborative sessions at States and is hosted by the State emergency management agency. FEMA provides State emergency management agencies with a detailed analysis report and roadmap for continuous improvement if the State decides to share the outcome.

Affected Public: State, local, or Tribal Government.

Estimated Number of Respondents: 10.

Frequency of Response: Once.

Estimated Average Hour Burden per Respondent: FEMA Form 008-0-1, LCAT Booklet, 12 hours; LCAT Briefing, 20 minutes.

Estimated Total Annual Burden Hours: 123.3 hours.

Estimated Cost: There are no operation and maintenance, or capital and start-up costs associated with this collection of information.

Dated: January 19, 2011.
Lesia M. Banks,
Director, Records Management Division, Mission Support Bureau, Federal Emergency Management Agency, Department of Homeland Security.

[FR Doc. 2011-1597 Filed 1-25-11; 8:45 am]

BILLING CODE 9111-A9-P